STATE JUSTICE INSTITUTE

SJI Board of Directors Meeting, Notice

AGENCY: State Justice Institute.

ACTION: Notice of meeting.

SUMMARY: The SJI Board of Directors will be meeting on Monday, September 9, 2019 at 1:00 p.m. The meeting will be held at the Athenee Hotel in New York, New York. The purpose of this meeting is to consider grant applications for the 4th quarter of FY 2019, and other business. All portions of this meeting are open to the public.

ADDRESSES: Athenee Hotel, 37 E 64th Street, New York, NY 10065.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2019-18851 Filed 8-29-19; 8:45 am]

BILLING CODE P